DEPARTMENT OF DEFENSE

Defense Acquisition Regulations System

48 CFR Part 212

RIN 0750-AG15

Defense Federal Acquisition Regulation Supplement; Payment Protections for Subcontractors and Suppliers—Deletion of Duplicative Text (DFARS Case 2008-D021)

AGENCY: Defense Acquisition Regulations System, Department of Defense (DoD).

ACTION: Final rule.

SUMMARY: DoD has issued a final rule amending the Defense Federal Acquisition Regulation Supplement (DFARS) to update the list of laws inapplicable to contracts and subcontracts for the acquisition of commercial items. The rule removes a law addressing payment protections for subcontractors and suppliers from the DFARS list, since this law has been added to the FAR list of laws inapplicable to contracts and subcontracts for the acquisition of commercial items.

DATES: Effective Date: December 18, 2008.

FOR FURTHER INFORMATION CONTACT: Ms. Angie Sawyer, Defense Acquisition Regulations System, OUSD (AT&L) DPAP (DARS), IMD 3D139, 3062 Defense Pentagon, Washington, DC 20301-3062. Telephone 703-602-8384; facsimile 703-602-7887. Please cite DFARS Case 2008-D021.

SUPPLEMENTARY INFORMATION:

A. Background

FAR 12.503 and 12.504 list the laws that are inapplicable to Executive agency contracts and subcontracts for the acquisition of commercial items. The DFARS supplements the FAR listing with those laws unique to DoD at 212.503 and 212.504.

This final rule removes Section 806 of Public Law 102-190, Payment Protections for Subcontractors and Suppliers, from the lists at DFARS 212.503 and 212.504, since this law was added to the lists at FAR 12.503 and 12.504 in the final rule published at 73 FR 54007 on September 17, 2008. This rule also amends DFARS 212.504 to remove the paragraphs that were designated as “Reserved.”

This rule was not subject to Office of Management and Budget review under Executive Order 12866, dated September 30, 1993.

B. Regulatory Flexibility Act

This rule will not have a significant cost or administrative impact on contractors or offerors, or a significant effect beyond the internal operating procedures of DoD. Therefore, publication for public comment under 41 U.S.C. 418b is not required. However, DoD will consider comments from small entities concerning the affected DFARS subpart in accordance with 5 U.S.C. 610. Such comments should cite DFARS Case 2008-D021.

C. Paperwork Reduction Act

The Paperwork Reduction Act does not apply, because the rule does not impose any information collection requirements that require the approval of the Office of Management and Budget under 44 U.S.C. 3501, et seq.

List of Subjects in 48 CFR Part 212

Government procurement.

Michele P. Peterson,
Editor, Defense Acquisition Regulations System.

Therefore, 48 CFR Part 212 is amended as follows:

PART 212—ACQUISITION OF COMMERCIAL ITEMS

1. The authority citation for 48 CFR Part 212 continues to read as follows:

Authority: 41 U.S.C. 421 and 48 CFR Chapter 1.

212.503 [Amended]

2. Section 212.503 is amended by removing paragraph (a)(i) and redesignating paragraphs (a)(ii) through (xi) as paragraphs (a)(i) through (x) respectively.

212.504 [Amended]

3. Section 212.504 is amended as follows:

a. By removing paragraphs (a)(i) and (ii) and (a)(xix) through (xxi);

b. By redesignating paragraphs (a)(iii) through (xviii) as paragraphs (a)(i) through (xvi) respectively; and

c. By redesignating paragraphs (a)(xxii) and (xxiii) as paragraphs (a)(xvii) and (xviii) respectively.

[FR Doc. E8-29993 Filed 12-17-08; 8:45 am]

BILLING CODE 5001-08-P